DEPARTMENT OF AGRICULTURE

Forest Service

Notice of Proposed New Fee Sites; Federal Lands Recreation Enhancement Act

AGENCY: Monongahela National Forest, Forest Service, USDA.

ACTION: Notice of proposed new fee sites.

SUMMARY: The Monongahela National Forest is proposing to charge a reservation fee at the newly constructed Seneca Rocks Picnic Shelter of $75 per day plus a $10 service fee. Advance reservations for the shelter will be available through www.recreation.gov or by calling 1-877-444-6777. Use of the shelter during unreserved times will remain free of charge. The final fee price will be determined upon further analysis and public comment. An analysis of nearby shelters with similar amenities shows that the proposed fee is reasonable and typical of similar sites in the area. Funds from the fee would be used for the continued operation, maintenance, and improvements of this site.

DATES: Comments will be accepted by September 30, 2018 so comments can be compiled, analyzed, and shared with the Eastern Region Recreation Resource Advisory Committee. The applicable date of implementation of the proposed new fee will be no earlier than six months after publication of this notice.

ADDRESSES: Cheat-Potomac Ranger District, Attn: Alex Schlueter, 2499 North Fork Hwy., Petersburg, WV 26847.

FOR FURTHER INFORMATION CONTACT: Alex Schlueter, North Zone Recreation Staff Officer, 304-257-4488 x7114. Information about proposed fee changes can also be found on the Monongahela National Forests' website: https://www.fs.usda.gov/mnf.

SUPPLEMENTARY INFORMATION: The Federal Recreation Lands Enhancement Act (Title VII, Pub. L. 108-447) directed the Secretary of Agriculture to publish a six month advance notice in the Federal Register whenever new recreation fee areas are established.

Once public involvement is complete, this new fee will be reviewed by the Eastern Region Recreation Resource Advisory Committee prior to a final decision and implementation.

Dated: August 28, 2018.
Chris French,
Acting Deputy Chief, National Forest System.

[FR Doc. 2018-19963 Filed 9-13-18; 8:45 am]

BILLING CODE 3411-15-P